DEPARTMENT OF THE INTERIOR

Fish and Wildlife Service

[FWS-R2-ES-2009-0015; 20124-1113-0000-F5]

Endangered and Threatened Species Permit Applications

AGENCY: Fish and Wildlife Service, Interior.

ACTION: Notice of receipt of applications.

SUMMARY: The following applicants have applied for scientific research permits to conduct certain activities with endangered species under the Endangered Species Act of 1973, as amended (Act).

DATES: To ensure consideration, written comments must be received on or before March 13, 2009.

ADDRESSES: Written comments should be submitted to the Chief, Endangered Species Division, Ecological Services, P.O. Box 1306, Room 6034, Albuquerque, New Mexico 87103. Documents and other information submitted with these applications are available for review, subject to the requirements of the Privacy Act and Freedom of Information Act. Documents will be available for public inspection, by appointment only, during normal business hours at the U.S. Fish and Wildlife Service, 500 Gold Ave. SW., Room 6034, Albuquerque, New Mexico. Please refer to the respective permit number for each application when submitting comments.

FOR FURTHER INFORMATION CONTACT: Susan Jacobsen, Chief, Endangered Species Division, P.O. Box 1306, Albuquerque, New Mexico 87103, (505) 248-6920.

SUPPLEMENTARY INFORMATION:

Public availability of comments

Before including your address, phone number, e-mail address, or other personal identifying information in your comment, you should be aware that your entire comment—including your personal identifying information—may be made publicly available at any time. While you can ask us in your comment to withhold your personal identifying information from public review, we cannot guarantee that we will be able to do so.

Permit TE-819477

Applicant: Malcolm Pirnie, Inc., Austin, Texas.

Applicant requests a new permit for research and recovery purposes to conduct presence/absence surveys of the following species: lesser long-nosed bat (Leptonycteris yerbabuenae), Mexican long-nosed bat (Leptonycteris nivalis), northern aplomado falcon (Falco femoralis), jaguar (Panthera onca), and Sneed's pincushion cactus (Escobaria sneedii) within Texas, New Mexico, and Arizona.

Permit TE-202295

Applicant: Chad Wesley Hargrave, Huntsville, Texas.

Applicant requests a new permit for research and recovery purposes to conduct presence/absence surveys of Comanche Springs pupfish (Cyprinidon elegans) and Pecos gambusia (Gambusia nobilis) within Texas.

Permit TE-022190

Applicant: Arizona Sonora Desert Museum, Tucson, Arizona.

Applicant requests an amendment to a current permit for research and recovery purposes to conduct presence/absence surveys of Sonora tiger salamander (Ambystoma mavortium stebbinsi) and bonytail chub (Gila elegans) within Arizona.

Permit TE-204355

Applicant: Ecological Communications Corporation, Austin, Texas.

Applicant requests a new permit for research and recovery purposes to conduct presence/absence surveys of black-capped vireo (Vireo atricapilla) and golden-cheeked warbler (Dendroica chrysoparia) within Texas.

Permit TE-101264

Applicant: Vernadero Group, Tempe, Arizona.

Applicant requests an amendment to a current permit for research and recovery purposes to transport and transplant Huachuca water umbel (Lilaeopsis schaffneriana spp. recurva) within Arizona.

Authority: 16 U.S.C. 1531 et seq.

Dated: January 29, 2009.
Brian A. Millsap,
Regional Director, Southwest Region, Fish and Wildlife Service.

[FR Doc. E9-2882 Filed 2-10-09; 8:45 am]

BILLING CODE 4310-55-P